DEPARTMENT OF COMMERCE

International Trade Administration

[C-533-821]

Certain Hot-Rolled Carbon Steel Flat Products From India: Notice of Commencement of Compliance Proceedings Pursuant to Section 129 of the Uruguay Round Agreements Act

AGENCY: Enforcement and Compliance, International Trade Administration, Department of Commerce.

DATES: Effective Date: September 23, 2015.

SUMMARY: Pursuant to Section 129 of the Uruguay Round Agreements Act (URAA), 19 U.S.C. 3538, the Department of Commerce (Department), is commencing proceedings to gather information, analyze record evidence, and consider the determinations which would be necessary to bring its measures into conformity with the recommendations and rulings of the Dispute Settlement Body (DSB) of the World Trade Organization (WTO) in United States—Countervailing Duty Measures on Certain Hot-Rolled Carbon Steel Flat Products from India—(WTO/DS436). This dispute concerns the final results issued in certain administrative reviews of the countervailing duty (CVD) order on certain hot-rolled carbon steel flat products from India.

FOR FURTHER INFORMATION CONTACT: Eric B. Greynolds, Program Manager, AD/CVD Operations Office III, Enforcement and Compliance, International Trade Administration, U.S. Department of Commerce, 14th Street and Constitution Avenue NW., Washington, DC 20230; Telephone: (202) 482-6071.

SUPPLEMENTARY INFORMATION:

Background

On February 13, 2015, the United States informed the DSB that the United States intends to implement the DSB's recommendations and rulings in WTO/DS436. The segments of the proceeding subject to implementation are as follows:

Title of administrative review | Period of review | Federal Register citation and publication date
Final Results of Countervailing Duty Administrative Review: Certain Hot-rolled Carbon Steel Flat Products from India | January 1, 2004 through December 31, 2004 | 71 FR 28665 (May 17, 2006).
Final Results of Countervailing Duty Administrative Review: Certain Hot-Rolled Carbon Steel Flat Products From India | January 1, 2006 through December 31, 2006 | 73 FR 40295 (July 14, 2008).
Final Results of Countervailing Duty Administrative Review: Certain Hot-Rolled Carbon Steel Flat Products From India | January 1, 2007 through December 31, 2007 | 74 FR 20923 (May 6, 2009).
Final Results of Countervailing Duty Administrative Review: Certain Hot-Rolled Carbon Steel Flat Products From India | January 1, 2008 through December 31, 2008 | 75 FR 43488 (July 26, 2010).

Commencement of Section 129 Proceedings

In accordance with Section 129(b)(1) of the URAA, the Department consulted with the Office of the United States Trade Representative, and on August 21, 2015, pursuant to those consultations, opened segments in the CVD administrative reviews at issue to commence administrative actions to comply with the DSB's recommendations and rulings. Each segment will consist of a separate administrative record with its own administrative protective order. In accordance with 19 CFR 351.305(b), interested parties may request access to business proprietary information in the segment of the proceeding to which they are participating. For each of these Section 129 segments, we may request additional information and we may conduct verification of such information. Consistent with Section 129(d) of the URAA, the Department will issue preliminary results in each of the Section 129 segments, the Department will provide interested parties with an opportunity to provide written comments on those preliminary results, and the Department may hold a hearing.

Filing Requirements & Letter of Appearance

In accordance with the Department's regulations, all submissions to the Department must be filed electronically using Enforcement and Compliance's Antidumping and Countervailing Duty Centralized Electronic Service System (ACCESS). An electronically-filed document must be received successfully in its entirety by the time and date it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.¹

¹ See generally 19 CFR 351.303 (for general filing requirements).

Pursuant to 19 CFR 351.103(d)(l), to be included on the public service list for the Section 129 determination for the aforementioned proceedings, all interested parties, including parties that were part of the public service list in the underlying segments of the proceeding and any parties otherwise notified of the Department's commencement of these Section 129 proceedings, must file a letter of appearance. The letter of appearance must be filed separately from any other document (with the exception of an application for administrative protective order (APO) access; parties applying for and granted APO access would automatically be on the public service list). Parties wishing to enter an appearance or submit information with regard to these proceedings must upload their filing(s) to each relevant case number. Additionally, for each submission made in ACCESS, parties must select “S 129-SEC 129” as the segment, and enter “DS436-“2004” “DS436-2006,” “DS436-2007” or “DS436-2008” as appropriate in the segment specific information field.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The regulation requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these segments.

Extension of Time Limits Regulation

Parties may request an extension of time limits before the expiration of a time limit established under Part 351, or as otherwise specified by the Secretary. In general, an extension request will be considered untimely if it is filed after the expiration of the time limit established under Part 351 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm prior to submitting factual information in these segments.

Certification Requirements

Any party submitting factual information in an antidumping (AD) or CVD proceeding must certify to the accuracy and completeness of that information.² Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³ The Department intends to reject factual submissions if the submitting party does not comply with the applicable revised certification requirements.

² See section 782(b) of the Act.

³ See Certification of Factual Information To Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is published in accordance with Section 129(b)(1) of the URAA.

Dated: September 17, 2015.
Christian Marsh,
Deputy Assistant Secretary for Antidumping and Countervailing Duty Operations.

[FR Doc. 2015-24183 Filed 9-22-15; 8:45 am]

BILLING CODE 3510-DS-P